ENVIRONMENTAL PROTECTION AGENCY

[FRL-8023-7]

Science Advisory Board Staff Office; Notification of a Teleconference of the Science Advisory Board

AGENCY: Environmental Protection Agency (EPA).

ACTION: Notice.

SUMMARY: The EPA Science Advisory Board (SAB) Staff Office announces a public teleconference meeting of the chartered SAB to discuss a draft SAB report, EPA's Draft Risk Assessment of the Potential Human Health Effects Associated with Exposure to Perfluorooctanoic Acid (PFOA): A Review by the PFOA Review Panel of the EPA Science Advisory Board.

DATES: The date for the teleconference is February 15, 2006, from 1:45-4 p.m. (eastern time).

ADDRESSES: The meeting will take place via telephone only.

FOR FURTHER INFORMATION CONTACT: Members of the public who wish to obtain the call-in number and access code to participate in the telephone conference may contact Mr. Thomas O. Miller, Designated Federal Officer (DFO), Science Advisory Board Staff Office (1400F), U.S. EPA, 1200 Pennsylvania Avenue, NW., Washington, DC 20460; or via telephone/voice mail at (202) 343-9982 or via e-mail at miller.tom@epa.gov. General information about the SAB as well as any updates concerning the meeting announced in this notice, may be found on the SAB Web site at http://www.epa.gov/sab. The technical contact in EPA's Office of Pollution Prevention and Toxics (OPPT) is Dr. Jennifer Seed who can be reached via e-mail at seed.jennifer@epa.gov or via telephone/voice mail at 202-564-7634.

SUPPLEMENTARY INFORMATION: Pursuant to the Federal Advisory Committee Act, Public Law 92-463, notice is hereby given that the SAB will hold a public teleconference on the date and time provided above. The purpose of this telephone conference is to have the chartered SAB review and approve the draft SAB report EPA's Draft Risk Assessment of the Potential Human Health Effects Associated with Exposure to Perfluorooctanoic Acid (PFOA): A Review by the PFOA Review Panel of the EPA Science Advisory Board. The focus of the meeting is to consider whether: (i) The charge to the SAB review panel has been adequately addressed in the draft report, (ii) the draft report is clear and logical and (iii) the conclusions drawn or recommendations made in the draft report are supported by the body of the report.

Background

EPA's Office of Pollution Prevention and Toxics (OPPT) had requested that the SAB peer review the Agency's Perfluorooctanoic Acid (PFOA) Risk Assessment. Background on the PFOA Review Panel activities can be found in several Federal Register notices 69 FR 16249-16250 (March 29 2004); 70 FR 2157-2158 (January 12, 2005); 70 FR 32771-32772 (June 6, 2005). Information can also be found on the EPA SAB Web site at http://www.epa.gov/sab/panels/pfoa_rev_panel.htm.

Availability of Meeting Materials

A roster of participating SAB members and the meeting agenda will be posted on the SAB Web site prior to the meeting. The draft report that is the subject of this meeting will be available on the SAB Web site (see above) prior to the meeting.

Procedures for Providing Public Input

Interested members of the public may submit relevant written or oral information for the SAB Panel to consider during the advisory process. Oral Statements: In general, individuals or groups requesting an oral presentation at a public teleconference will be limited to three minutes per speaker with no more than a total of thirty minutes for all speakers. Interested parties should contact the DFO, contact information provided above, in writing via e-mail by February 7, 2006, to be placed on the public speaker list for the teleconference. Written Statements: Written statements should be received in the SAB Staff Office by February 7, 2006, so that the information may be made available to the Panel for their consideration. Written statements should be supplied to the DFO in the following formats: One hard copy with original signature, and one electronic copy via e-mail (acceptable file format: Adobe Acrobat, WordPerfect, Word or Rich Text files in IBM-PC/Windows 98/2000/XP format).

Meeting Accommodations

For information on access or services for individuals with disabilities, please contact the DFO, contact information provided above. To request accommodation of a disability, please contact the DFO, preferably at least 10 days prior to the meeting, to give EPA as much time as possible to process your request.

Dated: January 18, 2006.
Anthony Maciorowski,
Associate Director for Science, EPA Science Advisory Board Staff Office.

[FR Doc. 06-583 Filed 1-27-06; 8:45 am]

BILLING CODE 6560-50-P